DEPARTMENT OF AGRICULTURE

Agricultural Research Service

Notice of Intent To Renew a Currently Approved Information Collection

AGENCY: Agricultural Research Service, USDA.

ACTION: Notice and request for comments.

SUMMARY: In accordance with the Paperwork Reduction Act of 1995 (Pub. L. 104-13) and Office of Management and Budget (OMB) regulations at 5 CFR 1320 (60 FR 44978, August 29, 1995), this notice announces the Agricultural Research Service's (ARS) intention to request an extension for a currently approved information collection in support of USDA's Biological Control Documentation Program dealing with documenting the importation and release of foreign biological control agents.

DATES: Comments on this notice must be received by September 3, 2008, to be assured of consideration.

ADDRESSES: Address all comments concerning this notice to Glenn Hanes, ARS Biological Control Documentation Center, National Program Staff, National Agricultural Library, ARS, USDA, 10301 Baltimore Avenue, Beltsville, MD 20705-2351.

FOR FURTHER INFORMATION CONTACT: Glenn Hanes, ARS Biological Control Documentation Center, (301) 504-8137.

SUPPLEMENTARY INFORMATION: Title: USDA Biological Shipment Record—Beneficial Organisms: Foreign/Overseas Source (AD-941); Quarantine Facility (AD-942); and Non-Quarantine (AD-943).

OMB Number: 0518-0013.

Expiration Date: 3 years from date of approval.

Type of Request: To renew the currently approved information collection.

Abstract: The purpose of the Biological Control Documentation Program is to record the importation (AD-941), release from quarantine (AD-942), and shipment and/or field release/recolonization (AD-942 and AD-943) of foreign/introduced beneficial organisms (pollinators and biological control agents for invasive species). The information collected is entered into the USDA “Releases of Beneficial Organisms in the United States and Territories” (ROBO) database, established in 1984. It is a cooperative program among USDA and other Federal agencies, state governmental agencies, and U.S. universities. The use of the forms and the information provided is voluntary. The program is for the benefit of biological control research and action agency personnel, taxonomists, federal and state regulatory agencies, agricultural administrators, and the general public. The AD-941 has been computerized and efforts are underway to replace the other paper forms with computerized information collection, and when completed, only those units for which computerized input is not possible would use the forms.

Estimate of Burden: Public reporting burden for this collection of information is estimated to average 1/12 hour per response.

Non-Federal Respondents: Universities, and state and local governments.

Estimated Number of Non-Federal Respondents: 40.

Estimated Number of Responses per Respondent: An average of 3 (range 1-30).

Estimated Total Annual Burden on Respondents: 10 hours.

Copies of the three forms used in this information collection, and information on the computerized form can be obtained from Glenn Hanes, ARS Biological Control Documentation Center, at (301) 504-8137.

Comments: Comments are invited on: (a) Whether the proposed collection of information is necessary for the proper performance of the functions of the agency, including whether the information will have practical utility; (b) the accuracy of the agency's estimate of the burden of the proposed collection of information, including the Validity of the methodology and assumptions used; (c) ways to enhance the quality, utility, and clarity of the information to be collected; and (d) ways to minimize the burden of the collection of information on those who are to respond, including through use of appropriate automated, electronic, mechanical or other technological collection techniques or other forms of information technology. Comments may be sent to: Glenn Hanes, ARS Biological Control Documentation Center, National Program Staff, ARS, USDA, National Agricultural Library, 10301 Baltimore Avenue, Beltsville, MD 20705-2351.

All responses to this notice will be summarized and included in the request for OMB approval. All comments will also become a matter of public record.

Dated: June 16, 2008.
Antoinette A. Betschart,
Associate Administrator, ARS.

[FR Doc. E8-14692 Filed 6-27-08; 8:45 am]

BILLING CODE 3410-03-P